DEPARTMENT OF COMMERCE

International Trade Administration

[A-570-900, A-580-855]

Diamond Sawblades and Parts Thereof From the People's Republic of China and the Republic of Korea: Notice of Anniversary Month and First Opportunity To Request an Administrative Review

AGENCY: Import Administration, International Trade Administration, Department of Commerce.

SUMMARY: On November 4, 2009, the Department of Commerce (“the Department”) published antidumping duty orders and ordered the collection of cash deposits on subject merchandise in the antidumping duty investigations of diamond sawblades and parts thereof (“diamond sawblades”) from the People's Republic of China (“PRC”) and the Republic of Korea (“Korea”). See Diamond Sawblades and Parts Thereof From the People's Republic of China and the Republic of Korea: Antidumping Duty Orders, 74 FR 57145 (November 4, 2009) (“Diamond Sawblades Orders”). The first anniversary month for these orders will be November 2010, based on the November 4, 2009, publication date of the Diamond Sawblades Orders.

FOR FURTHER INFORMATION CONTACT: David Layton or Brandon Farlander, (202) 482-0371 or (202) 482-0182, respectively (Korea), AD/CVD Operations, Office 4; Alex Villanueva (202) 482-3208 (PRC), AD/CVD Operations, Office 9, Import Administration, International Trade Administration, U.S. Department of Commerce, 14th Street and Constitution Avenue, NW., Washington, DC 20230.

SUPPLEMENTARY INFORMATION:

Background

The Department published the Diamond Sawblades Orders on November 4, 2009, pursuant to instructions from the U.S. Court of International Trade (“CIT”).¹ In the Diamond Sawblades Orders, the Department stated that the orders covering diamond sawblades from Korea and the PRC are effective as of January 23, 2009, because this is the date that suspension of liquidation went into effect for all subject entries of diamond sawblades, pursuant to the January 22, 2009, notification from the United States International Trade Commission (“ITC”) that the CIT had sustained the ITC's redetermination of threat of material injury.² The Department provides a complete description of the sequence of events leading up to the issuance of the orders in the Diamond Sawblades Orders with references provided for the relevant decisions and notices issued by the ITC, the Department, and the CIT.

¹ See Diamond Sawblades Manufacturers Coalition v. United States, Nos. 06-247, 09-110, Slip Op. 09-107 (CIT Sept. 30, 2009).

² See DSMC v. US, No. 06-00247, Slip Op. 09-05 (CIT Jan. 13, 2009).

Anniversary Month of the Orders

Although the effective date of the orders is January 23, 2009, based on the date of the suspension of liquidation, the Department designates November as the anniversary month for these diamond sawblades orders because this is the month in which the Department published the notice for these orders. In its regulations, the Department defines the anniversary month as the calendar month in which the anniversary of the date of publication of an order or suspension of investigation occurs. See 19 CFR 351.102(b). Therefore, consistent with section 751(a)(1) of the Tariff Act of 1930, as amended, and 19 CFR 351.213(b), the first opportunity to request a review of the above-referenced orders will be in November 2010.

Dated: December 29, 2009.
Ronald K. Lorentzen,
Deputy Assistant Secretary for Import Administration.

[FR Doc. 2010-32 Filed 1-6-10; 8:45 am]

BILLING CODE 3510-DS-P